DEPARTMENT OF HEALTH AND HUMAN SERVICES

Administration for Children and Families

Submission for OMB Review; Comment Request

Title: Voluntary Establishment of Paternity.

OMB No.: 0970-0175.

Description: The Personal Responsibility and Work Opportunity Reconciliation Act of 1996 requires States to develop procedures for a simple civil process for voluntarily acknowledging paternity under which the State must provide that, before a mother and putative father can sign a voluntary acknowledgement of paternity, the mother and putative father must be given notice, orally and in writing, of the alternatives to, the legal consequences of, and the rights and responsibilities of acknowledging paternity, and ensure that due process safeguards are afforded.

Respondents: Hospitals, birth record agencies, and other entities participating in a State's voluntary paternity establishment program.

Annual Burden Estimates

Table of Burden Estimates for Informing Parents of Their rights and Responsibilities and for Providing Training
Notifying entity | Number of disclosors | Number of disclosures per disclosor | Average burden hours per disclosure | Average burden hours for training | Total burden hours
Hospital | 6,291 | 35.654 | .166 | 800 | 38,034
Birth Record Agencies | 3,072 | 3.319 | .166 | 36 | 1,728
Child Support Agencies | 3,072 | 3.319 | .166 | 36 | 1,728
Private Health Care Providers | 650,000 | 3.319 | .166 | 36 | 1,728
Child Care Resource and Referral Centers | 500 | 3.319 | .166 | 36 | 1,728
Child Care Providers | 310,000 | 3.319 | .166 | 36 | 1,728
TANF agencies | 3,072 | 36.507 | .166 | 400 | 19,017
Legal Aid Agencies and Private Attorneys | 946,500 | 3.319 | .166 | 36 | 1,728
Food Stamp Agencies | 3,072 | 3.319 | .166 | 36 | 1,728
community Action Agencies | 1,158 | 3.319 | .166 | 36 | 1,728
Head Start Schools | 37,000 | 3.319 | .166 | 36 | 1,728
Secondary Schools | 23,046 | 3.319 | .166 | 36 | 1,728
WIC Centers | 1,800 | 3.319 | .166 | 36 | 1,728

Estimated Total Annual Burden Hours: 76,059.

Additional Information: Copies of the proposed collection may be obtained by writing to The Administration for Children and Families, Office of Information Services, 370 L'Enfant Promenade, SW., Washington, DC 20447, Attn: ACF Reports Clearance Officer.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street, NW., Washington, DC 20503, Attn: Desk Officer for ACF.

Dated: April 20, 2001.
Bob Sargis,
Reports Clearance Officer.

[FR Doc. 01-10233 Filed 4-24-01; 8:45 am]

BILLING CODE 4184-01-M